NATIONAL TRANSPORTATION SAFETY BOARD

Sunshine Act Meeting

Time and Date: 9:30 a.m., Tuesday, August 5, 2003.

Place: NTSB Conference Center, 429 L'Enfant Plaza, SW., Washington, D.C. 20594.

STATUS: The three items are Open to the Public.

Matters to be considered:

7487A—Railroad Accident Report—Derailment of Amtrak Auto Train P052-18 on the CSXT Railroad near Crescent City, Florida, on April 18, 2002.

7575—Railroad Accident Report—Uncontrolled Movement, Collision and Passenger Fatality on the Angels Flight Railway in Los Angeles, California, on February 1, 2001.

7299A—Aviation Accident Report—Emery Worldwide Airlines, Inc., McDonnell Douglas DC-8-71F, N8079U, Rancho Cordova, California, on February 16, 2000.

News Media Contact: Telephone: (202) 314-6100.

Individuals requesting specific accommodations should contact Ms. Carolyn Dargan at (202) 314-6305 by Friday, August 1, 2003.

For Further Information Contact: Vicky D'Onofrio, (202) 314-6410.

Dated: July 25, 2003.
Vicky D'Onofrio,
Federal Register Liaison Officer.

[FR Doc. 03-19324 Filed 7-25-03; 11:18 am]

BILLING CODE 7533-01-M